DEPARTMENT OF THE INTERIOR

Fish and Wildlife Service

[FWS-R8-ES-2012-N164; 80221-1113-0000-C2]

Endangered and Threatened Wildlife and Plants; Draft Recovery Plan for Four Subspecies of Island Fox

AGENCY: Fish and Wildlife Service, Interior.

ACTION: Notice of document availability for review and public comment.

SUMMARY: We, the U.S. Fish and Wildlife Service, announce the availability of our Draft Recovery Plan for Four Subspecies of Island Fox (Urocyon littoralis) under the Endangered Species Act of 1973, as amended (Act). Each of the four subspecies, San Miguel Island fox (Urocyon littoralis littoralis), Santa Rosa Island fox (U. l. santarosae), Santa Cruz Island fox (U. l. santacruzae), and Santa Catalina Island fox (U. l. catalinae), is endemic to the Channel Island off southern California for which it is named. We request review and comment on our plan from local, State, and Federal agencies, and the public. We will also accept any new information on the species' status throughout its range.

DATES: We must receive comments on or before November 13, 2012. However, we will accept information about any species at any time.

ADDRESSES: If you wish to review the draft recovery plan, you may obtain a copy by visiting our Web site at http://www.fws.gov/endangered/species/recovery-plans.html. Alternatively, you may contact the U.S. Fish and Wildlife Service, Ventura Fish and Wildlife Office, 2493 Portola Road, Suite B, Ventura, California 93003; telephone 805-644-1766. If you wish to comment on the plan, you may submit your comments in writing by any one of the following methods:

• U.S. mail: Field Supervisor, at the above address;

• Hand-delivery: Ventura Field Office, at the above address;

• Fax: (805) 644-3958; or

• Email: fw8islandfox@fws.gov.

If you submit comments by email, please include your name and return address in your email message.

FOR FURTHER INFORMATION CONTACT: Michael McCrary, Listing and Recovery Coordinator, at the above address, phone number, or email.

SUPPLEMENTARY INFORMATION:

Background

Recovery of endangered or threatened animals and plants to the point where they are again secure, self-sustaining members of their ecosystems is a primary goal of the endangered species program and the Act (16 U.S.C. 1531 et seq.). Recovery means improvement of the status of listed species to the point at which listing is no longer appropriate under the criteria set out in section 4(a)(1) of the Act. The Act requires the development of recovery plans for listed species, unless such a plan would not promote the conservation of a particular species.

Species' History

We listed four of the six subspecies of island fox endemic to the California Channel Islands as endangered on March 5, 2004, following catastrophic population declines (69 FR 10335). The San Miguel Island fox had declined from an estimated 450 individuals to 15; the Santa Rosa Island fox had declined from over 1,750 individuals to 14; the Santa Cruz Island fox had declined from approximately 1,450 individuals to approximately 55; and the Santa Catalina Island fox had declined from over 1,300 individuals to 103. The San Clemente Island fox (Urocyon littoralis clementae) and the San Nicolas Island fox (U. l. dickeyi) were not federally listed at that time, as their population numbers had not experienced similar declines.

The Draft Recovery Plan for Four Subspecies of Island Fox (Urocyon littoralis) was developed by the Island Fox Recovery Team, Recovery Coordination Group. We coordinated with the California Department of Fish and Game, and a team of stakeholders, which included scientific experts, landowners and managers, agency representatives, and non-government organizations.

The two primary threats that resulted in the listing of the four subspecies of island fox as federally endangered were (1) predation by golden eagles (Aquila chrysaetos) (San Miguel Island fox, Santa Rosa Island fox, and Santa Cruz Island fox) and (2) disease (Santa Catalina Island fox). Additionally, because the size of each island fox population is small, they are highly vulnerable to stochastic events and the effects of low genetic diversity.

Recovery Plan Goals

The objective of an agency recovery plan is to provide a framework for the recovery of a species so that protection under the Act is no longer necessary. A recovery plan includes scientific information about the species and provides criteria and actions necessary for us to be able to downlist or delist the species. Recovery plans help guide our recovery efforts by describing actions we consider necessary for the species' conservation and by estimating time and costs for implementing needed recovery measures.

To achieve its goals, this draft recovery plan identifies the following objectives:

1. Wild island fox populations exhibit demographic characteristics consistent with long-term viability; and

2. Land managers are able to respond in a timely fashion to potential and ongoing predation by golden eagles, to potential or incipient disease outbreaks, and to other identified threats.

As the species meets reclassification and recovery criteria, we review the species' status and consider the species for reclassification on or removal from the Federal List of Endangered and Threatened Wildlife and Plants.

Request for Public Comments

Section 4(f) of the Act requires us to provide public notice and an opportunity for public review and comment during recovery plan development. It is also our policy to request peer review of recovery plans (July 1, 1994; 59 FR 34270). We will consider all information presented during the public comment period prior to approval of the recovery plan. In an appendix to the approved recovery plan, we will summarize and respond to the issues raised by the public, agencies, and peer reviewers. Responses to individual commenters will not be provided, but we will provide a summary of how we addressed substantive comments in an appendix to the approved recovery plan. Substantive comments may or may not result in changes to the recovery plan. Comments regarding recovery plan implementation will be forwarded as appropriate to Federal or other entities so that they can be taken into account during the course of implementing recovery actions. We invite written comments on the draft recovery plan.

Before we approve the plan, we will consider all comments we receive by the date specified in DATES. Methods of submitting comments are in ADDRESSES.

Public Availability of Comments

Before including your address, phone number, email address, or other personal identifying information in your comment, you should be aware that your entire comment—including your personal identifying information—may be made publicly available at any time. While you can ask us in your comment to withhold your personal identifying information from public review, we cannot guarantee that we will be able to do so.

Comments and materials we receive will be available, by appointment, for public inspection during normal business hours at our office (see ADDRESSES).

Authority

We developed our draft recovery plan under the authority of section 4(f) of the Act, 16 U.S.C. 1533(f). We publish this notice under section 4(f) Endangered Species Act of 1973, as amended (16 U.S.C. 1531 et seq.).

Tom McCabe,
Acting Regional Director, Pacific Southwest Region.

[FR Doc. 2012-22657 Filed 9-13-12; 8:45 am]

BILLING CODE 4310-55-P